DEPARTMENT OF THE INTERIOR

Bureau of Land Management

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will meet in formal session on Friday, August 27 from 8 a.m. to 5 p.m. and Saturday, August 28 from 8 a.m. to 1 p.m. The meeting will be held at the Needles City Council Chambers, located at 1111 Bailey, Needles, California.

Agenda items will updates of ongoing plan amendments, reports by Council members, an overview of the Desert Manager's Group 5-year annual work plan, and a tentative presentation on the Clark County (Nevada) Habitat Conservation Plan.

All Desert District Advisory Council meetings are open to the public. Time for public comment may be made available by the Council Chairman during the presentation of various agenda items, and is scheduled at the end of the meeting for topics not on the agenda.

ADDRESSES: Written comments may be filed in advance of the meeting for the California Desert District Advisory Council, c/o Bureau of Land Management, External Affairs Office, 22835 Calle San Juan De Los Lagos, Moreno Valley, California 92553. Written comments also are accepted at the time of the meeting and, if copies are provided to the recorder, will be incorporated into the minutes.

FOR FURTHER INFORMATION CONTACT: Mr. Doran Sanchez, BLM California Desert District External Affairs (909) 697-5220.

Dated: June 16, 2004.
Linda Hansen,
District Manager.

[FR Doc. 04-14302 Filed 6-23-04; 8:45 am]

BILLING CODE 4310-40-P